DEPARTMENT OF HOMELAND SECURITY

Coast Guard

33 CFR Part 105

[Docket Nos. TSA-2006-24191; USCG-2006-24196]

Transportation Worker Identification Credential (TWIC) Implementation in the Maritime Sector; Hazardous Materials Endorsement for a Commercial Driver's License

AGENCY: United States Coast Guard; DHS.

ACTION: Notice of extension of compliance date, Captain of the Port Zones Buffalo, Duluth, Detroit, Lake Michigan, and Sault Ste. Marie.

SUMMARY: This document informs owners and operators of facilities located within Captain of the Port Zones Buffalo, Duluth, Detroit, Lake Michigan, and Sault Ste. Marie that the date by which they must implement access control procedures utilizing TWIC has been extended to no later than December 1, 2008. This extension is due to a building-wide loss of power that occurred on October 21, 2008, at the government facility that houses the TWIC system, which affected the system's ability to activate TWICs.

DATES: The new compliance date for the TWIC regulations found in 33 CFR part 105 for Captain of the Port Zones Buffalo, Duluth, Detroit, Lake Michigan, and Sault Ste. Marie is December 1, 2008.

ADDRESSES: Comments and material received from the public, as well as documents mentioned in this document as being available in the docket, are part of dockets TSA-2006-24191 and USCG-2006-24196, and are available for inspection or copying at the Docket Management Facility, U.S. Department of Transportation, West Building Ground Floor, Room W12-140, 1200 New Jersey Avenue SE., Washington, DC 20590, between 9 a.m. and 5 p.m., Monday through Friday, except Federal holidays. You may also find this docket on the Internet at http://www.regulations.gov.

FOR FURTHER INFORMATION CONTACT: If you have questions on this document, call LCDR Jonathan Maiorine, telephone 1-877-687-2243. If you have questions on viewing the docket, call Renee V. Wright, Program Manager, Docket Operations, telephone 202-493-0402.

SUPPLEMENTARY INFORMATION:

I. Regulatory History

On May 22, 2006, the Department of Homeland Security (DHS) through the United States Coast Guard (Coast Guard) and the Transportation Security Administration (TSA) published a joint notice of proposed rulemaking entitled “Transportation Worker Identification Credential (TWIC) Implementation in the Maritime Sector; Hazardous Materials Endorsement for a Commercial Driver's License” in the Federal Register (71 FR 29396). This was followed by a 45-day comment period and four public meetings. The Coast Guard and TSA issued a joint final rule, under the same title, on January 25, 2007 (72 FR 3492) (hereinafter referred to as the original TWIC final rule). The preamble to that final rule contains a discussion of all the comments received on the NPRM, as well as a discussion of the provisions found in the original TWIC final rule, which became effective on March 26, 2007.

On May 7, 2008, the Coast Guard and TSA issued a final rule to realign the compliance date for implementation of the Transportation Worker Identification Credential. 73 FR 25562. The date by which mariners need to obtain a TWIC, and by which owners and operators of vessels and outer continental shelf facilities must implement access control procedures utilizing TWIC, is now April 15, 2009 instead of September 25, 2008. Owners and operators of facilities that must comply with 33 CFR part 105 will still be subject to earlier, rolling compliance dates, as set forth in 33 CFR 105.115(e). The Coast Guard announced the rolling compliance dates, as provided in 33 CFR 105.115(e), at least 90 days in advance via notices published in the Federal Register. The final compliance date for all COTP Zones will not be later than April 15, 2009.

On July 9, 2008, we announced the compliance date for COTP Zones Buffalo, Duluth, Detroit, Lake Michigan, and Sault Ste. Marie would be October 31, 2008. 73 FR 39323.

II. Notice of Facility Compliance Date—COTP Zones Buffalo, Duluth, Detroit, Lake Michigan, and Sault Ste. Marie

Title 33 CFR 105.115(e) currently states that “[f]acility owners and operators must be operating in accordance with the TWIC provisions in this part by the date set by the Coast Guard in a Notice to be published in the Federal Register.” Through this Notice, the Coast Guard informs the owners and operators of facilities subject to 33 CFR 105.115(e) located within COTP Zones Buffalo, Duluth, Detroit, Lake Michigan, and Sault Ste. Marie that the deadline for their compliance with Coast Guard and TSA TWIC requirements has been extended until December 1, 2008.

This extension is being granted due to the disruption to TWIC activations caused by a building-wide loss of power that occurred on October 21, 2008, at the government facility that houses the TWIC system. The TSA and Coast Guard have determined that the new compliance date provides sufficient time for those who were unable to activate their TWICs during the disruption to return to an enrollment center and complete activation.

We strongly encourage persons requiring unescorted access to facilities regulated by 33 CFR part 105 and located in this COTP Zone to enroll for their TWIC as soon as possible, if they haven't already. Additionally, we note that the TWIC Final Rule advises owners and operators of MTSA regulated facilities of their responsibility to notify employees of the TWIC requirements. Specifically, 33 CFR 105.200(b)(14) requires owners or operators of MTSA regulated facilities to “[i]nform facility personnel of their responsibility to apply for and maintain a TWIC, including the deadlines and methods for such applications.” Information on enrollment procedures, as well as a link to the pre-enrollment website (which will also enable an applicant to make an appointment for enrollment), may be found at https://twicprogram.tsa.dhs.gov/TWICWebApp/.

You may visit our Web site at homeport.uscg.mil/twic for a listing of all compliance dates by COTP Zone. This list is subject to change; any changes in compliance dates will appear on that website and be announced in the Federal Register as early as possible.

Dated: October 24, 2008.
David W. Murk,
Commander, U.S. Coast Guard, Acting Chief, Ports and Facilities Activities.

[FR Doc. E8-25933 Filed 10-27-08; 4:15 pm]

BILLING CODE 4910-15-P